DEPARTMENT OF HOUSING AND URBAN DEVELOPMENT

[Docket No. FR-5124-N-01]

Notice of Submission of Proposed Information Collection to OMB; Implementation of the Violence Against Women (VAWA) and Justice Department Reauthorization Act of 2005

AGENCY: Office of the Assistant Secretary for Public and Indian Housing (PIH), HUD.

ACTION: Notice of information collection.

SUMMARY: The proposed information collection requirement described below has been submitted to the Office of Management and Budget (OMB) for review and approval, as required by the paperwork Reduction Act. The Department is soliciting public comments on the subject proposal.

This is a request for information collection that will be used by PHAs and owners to request that an individual, in response to an incident or incidents of actual or threatened domestic violence, dating violence or stalking that may affect a tenant's participation in the housing program to request in writing that an individual complete, sign and submit within 14 business days of the request, a HUD-approved certification form. On the form, the individual certifies that he/she is a victim of domestic violence, dating violence, or stalking, and that the incident or incidences in question are bona fide incidences of such actual or threatened abuse. On the certification form, the individual must provide the name of the perpetrator.

PHAs are instructed that the delivery of the certification form to the tenant in response to incident via mail may place the victim at risk, e.g., the abuser may monitor the mail; consequently, PHAs, owners and managers may require that the tenant come into the office to pick up the certification form. PHAs and owners are also encouraged to work with tenants to make delivery arrangements that do not place the tenant at risk.

If the individual does not provide the certification form or alternate documentation that may satisfy the certification requirements by the 14th business days or after any extension of that date provided by the PHA, owner or manager, none of the protections afforded to the victim of domestic violence, dating violence or stalking by sections 606 or 607 will apply. The PHA, owner or manager would therefore be free to evict, or terminate assistance, in the circumstances authorized by otherwise applicable law and lease provisions, without regard to the amendments made by section 606 and 607.

DATES: Comments due date: March 12, 2007.

ADDRESSES: Interested persons are invited to submit comments regarding this proposal. Comments should refer to the proposal by name and should be sent to: Aneita Waites, Reports Liaison Officer, Public and Indian Housing, Department of Housing and Urban Development, 451 7th Street, SW., Room 4116, Washington, DC 20410.

FOR FURTHER INFORMATION CONTACT: Aneita Waites, Reports Liaison Officer, PIH, Department of Housing and Urban Development, 451 Seventh Street, SW., Washington, DC 20410; e-mail Aneita_L._Waites@hud.gov, telephone (202) 708-0713. This is not a toll-free number. Copies of the proposed form(s) and other available documents may be obtained from Ms. Waites.

SUPPLEMENTARY INFORMATION: This Notice informs the public that the U.S. Department of Housing and Urban Development (HUD) has submitted to OMB, for processing, an information collection requirement as described above.

The Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Implementation of the Violence Against Women and Justice Department Reauthorization Act 2005.

Description of Information Collection: This is information collection obtaining signed certification from victims of domestic violence, dating violence or stalking.

OMB Control Number: 2577-0249.

Agency Form Numbers, if applicable: HUD-50066.

Members of Affected Public: Public Housing authorities (PHAs) and Owners participating in the public housing and Section 8 Housing Voucher programs.

Estimation of the total number of hours needed to prepare the information collection including number of respondents, frequency of responses, and hours of response: An estimation of the total number of hours needed to prepare the information collection is 60 minutes per applicant. The estimated number of respondents is 200. The frequency of response is once. The total public burden is estimated to be 200 hours.

Status of the Information Collection: Renewal of the previously approved collection.

Authority: The Paperwork Reduction Act of 1995, 44 U.S.C. Chapter 35, as amended.

Dated: January 4, 2007.
Bessy Kong,
Deputy Assistant Secretary for Policy, Program and Legislative Initiatives.

[FR Doc. 07-53 Filed 1-9-07; 8:45am]

BILLING CODE 4210-67-M